DEPARTMENT OF THE INTERIOR

Fish and Wildlife Service

[FWS-R6-2012-N197; FF06R06000-FXRS1265066CCP0S2-123]

Lee Metcalf National Wildlife Refuge, Ravalli County, MT; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for Lee Metcalf National Wildlife Refuge Complex (refuge), Stevensville, MT. In this final CCP, we describe how we will manage this refuge for the next 15 years.

ADDRESSES: You may view or obtain copies of the final CCP and FONSI/EA by any one of the following methods.

Agency Web Site: Download a copy of the document at from http://mountain-prairie.fws.gov/planning;

Email: leemetcalf@fws.gov. Include “Lee Metcalf final CCP” in the subject line of the message;

U.S. mail: U.S. Fish and Wildlife Service, Division of Refuge Planning, P.O. Box 25486, Denver Federal Center, Denver, CO 80225; or

In-Person Viewing or Pickup: Call 406-777-5552 to make an appointment during regular business hours at 4567 Wildfowl Lane, Stevensville, MT.

FOR FURTHER INFORMATION CONTACT: Laura King, 406-644-2211, ext. 210; leemetcalf@fws.gov (email).

SUPPLEMENTARY INFORMATION:

Introduction

With this notice, we finalize the CCP process for Lee Metcalf National Wildlife Refuge. We started this process through a notice in the Federal Register (74 FR 50235; September 30, 2009). We released the draft CCP and the EA to the public, announcing and requesting comments in a notice of availability in the Federal Register (77 FR 18852; March 28, 2012).

Lee Metcalf National Wildlife Refuge was established February 4, 1964, and has two purposes:

(1) “[F]or use as an inviolate sanctuary, or for any other management purpose, for migratory birds” (Migratory Bird Conservation Act); and

(2) “for (a) incidental fish and wildlife oriented recreational development, (b) the protection of natural resources, [and] (c) the conservation of endangered species or threatened species” (Refuge Recreation Act).

This refuge is located in Ravalli County, one of the fastest growing counties in the State of Montana, 2 miles north of Stevensville and 25 miles south of Missoula. Although it is one of the nation's smaller refuges, encompassing 2,800 acres, it is one of the few remaining undeveloped areas in the Bitterroot Valley. The refuge lies along the meandering Bitterroot River and is comprised of wet meadow and gallery and riverfront forest habitats and has created and modified wetlands.

Riverfront forest includes early succession tree species such as black cottonwood and sandbar willow that are present near the active channel of the Bitterroot River and next to floodplain drainages. Gallery forest is dominated by cottonwood and ponderosa pine and is present on higher floodplain elevations along natural levees. Over 140,000 visitors come to this refuge annually to view and photograph wildlife, archery deer hunt, walk the refuge trails, or participate in interpretive programs in the indoor and outdoor classrooms. The Refuge provides habitat for raptors, including ospreys, and numerous songbird and waterbird species.

We announce our decision and the availability of the FONSI for the final CCP for Lee Metcalf National Wildlife Refuge in accordance with National Environmental Policy Act (NEPA) (40 CFR 1506.6(b)) requirements. We completed a thorough analysis of impacts on the human environment, which we included in the EA that accompanied the draft CCP. The CCP will guide us in managing and administering Lee Metcalf National Wildlife Refuge for the next 15 years. Alternative B, as we described in the final CCP, is the foundation for the CCP with two modifications.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Comments

We solicited comments on the draft CCP and the EA for Lee Metcalf National Wildlife Refuge from March 28, 2012 to April 30, 2012 (77 FR 18852; March 28, 2012). During the review period a public meeting was held in Stevensville, Montana, on April 9, 2012. In additional to comments received at this meeting, 33 individual letters and emails were received. The Service reviewed all comments and made two modifications to the final CCP, in addition to clarifying or expanding existing information or recommendations. The responses to all substantive public comments can be found in the appendix of the final CCP.

Selected Alternative

The draft CCP and final EA included the analyses of three alternatives. After considering the comments we received, we have selected Alternative B for implementation, with the following modifications (beyond clarifying or expanding existing information or recommendations):

• The Kenai Nature Trail will be kept along its current path. However, visitors will have the option of remaining on a more level walking surface on a path above a steeper portion of the trail.

• We will determine if there are viable options for reducing the erosion along the Wildlife Viewing Area, a popular area for visitors. The decision to move forward will be based on cost, the effectiveness on reducing erosion, and impacts on the resource, including the Bitterroot River system.

This preferred alternative will serve as the final plan. The final plan identifies goals, objectives, and strategies that describe the future management of the Lee Metcalf National Wildlife Refuge, such as the expansion and restoration of native plant communities including grasslands, shrublands, and riparian forests. Some areas of wetland impoundments would be restored to native communities, including forest and shrubland. Refuge staff would manage and, where appropriate, restore the natural topography, water movements, and physical integrity of surface water flow patterns across the Bitterroot River floodplain. Unimpeded flow from North Burnt Fork Creek would be reconnected with flow pathways into the Bitterroot River to reduce creek water temperature, improve water and nutrient flow, and create habitat conditions conducive to native cold-water species. Additionally, a channel to the Bitterroot River would be reestablished that mimics the historical flow pattern of Three Mile Creek to create habitat conditions supporting native cold-water species and the restoration of riparian habitat. A significant focus of any restoration proposal would be controlling invasive species and preventing further spread. Grasses and shrubs native to the uplands, including the alluvial fans (that is, areas of sedimentary deposits where fast-flowing streams have flown into flatter plains), would begin to be restored to provide habitat for native wildlife, including grassland-dependent migratory birds. Some wetland impoundments and U.S. Fish and Wildlife Service (nonpublic) roads would be removed or reduced in size to allow for river migration and to restore native gallery and riverfront forest for riparian-dependent wildlife. The remaining impoundments would be managed to mimic natural conditions for wetland-dependent migratory birds.

The U.S. Fish and Wildlife Service would expand and improve the refuge's compatible wildlife-dependent public use programs, in particular the wildlife observation, environmental education, and interpretation programs. The visitor contact area would be expanded into a visitor center with new displays and a combination conference room and environmental education classroom. The refuge would work with Ravalli County staff to designate the county road in the refuge as an auto tour route, which would include pulloffs and some form of interpretation. A seasonal hiking trail would be added, and current trails would be improved for wildlife observation and photography. Interpretation and environmental education programs would be expanded using added staff and volunteers. All public use programs would provide visitors with a consistent message about the purposes and values of the refuge and the mission of the National Wildlife Refuge System.

The refuge staff would be expanded by 3.5 individuals to include an assistant refuge manager (one full-time equivalent), a full-time and a career-seasonal biological science technician (1.5 full-time equivalents), and a visitor services specialist (one full-time equivalent) who would serve as a visitor center manager and volunteer coordinator. Increased research and monitoring, staff, funding, infrastructure, and partnerships would be required to accomplish the goals, objectives, and strategies associated with this alternative. Additional staff and funding would be added depending on the regional priorities for those funds allocated to the U.S. Fish and Wildlife Service for management of lands and waters within the Refuge System.

Dated: August 29, 2012.
Matt Kales,
Acting, Deputy, Regional Director, Mountain-Prairie Region, U.S. Fish and Wildlife Service.

[FR Doc. 2012-24262 Filed 10-1-12; 8:45 am]

BILLING CODE 4310-55-P